OFFICE OF THE UNITED STATES TRADE REPRESENTATIVE

Generalized System of Preferences (GSP): Notice Regarding the Initiation of the 2009 Annual GSP Product and Country Eligibility Practices Review and Deadlines for Filing Petitions

AGENCY: Office of the United States Trade Representative.

ACTION: Notice and solicitation for public petitions.

SUMMARY: This notice announces that the Office of the United States Trade Representative (USTR) will receive petitions in 2009 to modify the list of products that are eligible for duty-free treatment under the GSP program and to modify the GSP status of certain GSP beneficiary developing countries because of country practices. This notice determines that the deadline for submission of country practice petitions for the 2009 Annual GSP Product and Country Eligibility Practices Review is 5 p.m., Wednesday, June 24, 2009. This notice further determines that the deadline for submission of product petitions, other than those requesting competitive need limitation (CNL) waivers or section 503(c)(1)(E) determinations regarding products not produced in the United States on January 1, 1995, is 5 p.m., Wednesday, June 24, 2009. The deadline for submission of petitions requesting CNL waivers and 503(c)(1)(E) determinations regarding products not produced in the United States on January 1, 1995 is 5 p.m., Tuesday, November 17, 2009. The lists of product petitions and country practice petitions accepted for review will be announced in the Federal Register at later dates.

FOR FURTHER INFORMATION CONTACT: Tameka Cooper, GSP Program, Office of the United States Trade Representative, 1724 F Street, NW., Room F-214, Washington, DC 20508. The telephone number is (202) 395-6971, the fax number is (202) 395-2961, and the e-mail address is Tameka_Cooper@ustr.eop.gov.

Public versions of all documents relating to this review will be made available for public viewing at http://www.regulations.gov upon completion of processing and no later than approximately two weeks after the relevant due date. Public versions of the petitions submitted for the June 24, 2009, deadline will be available in docket USTR-2009-0015 at http://www.regulations.gov.

I. 2009 Annual GSP Review

The GSP regulations (15 CFR part 2007) provide the timetable for conducting an annual review, unless otherwise specified by Federal Register notice. Notice is hereby given that, in order to be considered in the 2009 Annual GSP Product and Country Practices Eligibility Review, all petitions to modify the list of articles eligible for duty-free treatment under GSP or to review the GSP status of any beneficiary developing country must be received by the GSP Subcommittee of the Trade Policy Staff Committee no later than 5 p.m. on Wednesday, June 24, 2009. Petitions requesting CNL waivers and 503(c)(1)(E) determinations regarding products not produced in the United States on January 1, 1995, must be received by the GSP Subcommittee of the Trade Policy Staff Committee no later than 5 p.m. on Tuesday, November 17, 2009, in order to be considered in the 2009 Annual Review. Petitions submitted after the respective deadlines will not be considered for review.

GSP Product Review Petitions

Interested parties, including foreign governments, may submit petitions to: (1) Designate additional articles as eligible for GSP benefits, including to designate articles as eligible for GSP benefits only for countries designated as least-developed beneficiary developing countries, or only for countries designated as beneficiary sub-Saharan African countries under the African Growth and Opportunity Act (AGOA); (2) withdraw, suspend or limit the application of duty-free treatment accorded under the GSP with respect to any article, either for all beneficiary developing countries, least-developed beneficiary developing countries or beneficiary sub-Saharan African countries, or for any of these countries individually; (3) determine whether a like or directly competitive product was produced in the United States on January 1, 1995, for the purposes of section 503(c)(1)(E); (4) waive the “competitive need limitations” for individual beneficiary developing countries with respect to specific GSP-eligible articles (these limits do not apply to either least-developed beneficiary developing countries or AGOA beneficiary sub-Saharan African countries); and (5) otherwise modify GSP coverage.

As specified in 15 CFR 2007.1, all product petitions must include a detailed description of the product and the 8-digit subheading of the Harmonized Tariff Schedule of the United States (HTSUS) under which the product is classified.

Further, product petitions requesting CNL waivers for GSP-eligible articles from beneficiary developing countries that exceed the CNLs in 2009 as well as 503(c)(1)(E) determinations regarding whether a like or directly competitive product was produced in the United States on January 1, 1995, must be filed in the 2009 Annual Review. In order to allow petitioners an opportunity to review additional 2009 U.S. import statistics, these petitions may be filed after Wednesday, June 24, 2009, but must be received on or before the Tuesday, November 17, 2009, deadline described above in order to be considered in the 2009 Annual Review. Copies will be made available for public inspection at http://www.regulations.gov after the November 17, 2009, deadline.

Country Practices Eligibility Review Petitions

Any person may submit petitions to review the designation of any beneficiary developing country, including any least-developed beneficiary developing country, with respect to any of the designation criteria listed in sections 502(b) or 502(c) of the Trade Act (19 U.S.C. 2462(b) and (c)). Petitions to review the designation of beneficiary sub-Saharan African countries are considered in the Annual Review of the AGOA, a separate administrative process not governed by the GSP regulations.

II. Requirements for Submissions

All submissions for the GSP Product and Country Practices Eligibility Review must conform to the GSP regulations set forth at 15 CFR part 2007, except as modified below. These regulations are reprinted in the “U.S. Generalized System of Preferences Guidebook” (“GSP Guidebook”), available at: http://www.ustr.gov/assets/Trade_Development/Preference_Programs/GSP/asset_upload_file666_8359.pdf.

Any person or party making a submission is strongly advised to review the GSP regulations. A model petition format is available from the GSP Subcommittee and is included in the GSP Guidebook. Petitioners are requested to use this model petition format so as to ensure that all information requirements are met. Submissions in response to this notice, with the exception of business confidential submissions, must be submitted electronically using http://www.regulations.gov, docket number USTR-2009-0015. Hand-delivered submissions will not be accepted. Submissions must be submitted in English to the Chairman of the GSP Subcommittee, Trade Policy Staff Committee, by the applicable deadlines set forth in this notice. Submissions that do not provide the information required by sections 2007.0 and 2007.1 of the GSP regulations will not be accepted for review, except upon a detailed showing in the submission that the petitioner made a good faith effort to obtain the information required.

To ensure their most timely and expeditious receipt and consideration, petitions provided in response to this notice, with the exception of business confidential submissions, must be submitted online at http://www.regulations.gov. To make a submission using http://www.regulations.gov, enter docket number USTR-2009-0015 on the home page and click “go.” The site will provide a search-results page listing all documents associated with this docket. Find a reference to this notice by selecting “Notice” under “Document Type” on the left side of the search-results page, and click on the link entitled “Send a Comment or Submission.” The http://www.regulations.gov Web site offers the option of providing comments by filling in a “General Comments” field or by attaching a document. Submissions must be in English, with the total submission not to exceed 30 single-spaced standard letter-size pages in 12-point type, including attachments. Any data attachments to the submission should be included in the same file as the submission itself, and not as separate files.

Given the detailed nature of the information sought by the GSP Subcommittee, it is expected that most comments and submissions will be provided in an attached document. When attaching a document, type (1) The eight-digit HTSUS subheading number, and (2) “See attached” in the “General Comments” field on the online submission form, and indicate on the attachment whether the document is a “Country Practice Review Petition” or “Product Review Petition for [HTSUS Subheading Number], [Product Name], and, if pertinent, [Country].”

Submissions must include at the beginning of the submission, or on the first page (if an attachment), the following text (in bold and underlined): (1) “2009 GSP Annual Review”; and (2) for product petitions, the eight-digit HTSUS subheading number in which the product is classified; for country practice petitions, the name of the country. Furthermore, interested parties submitting petitions that request action with respect to specific products should also list at the beginning of the submission, or on the first page (if an attachment) the following information: (1) The requested action; and (2) if applicable, the beneficiary developing country.

Each submitter will receive a submission tracking number upon completion of the submissions procedure at http://www.regulations.gov. The tracking number will be the submitter's confirmation that the submission was received into http://www.regulations.gov. The confirmation should be kept for the submitter's records. USTR is not responsible for any delays in a submission due to technical difficulties, nor is it able to provide any technical assistance for the Web site. Documents not submitted in accordance with these instructions may not be considered in this review. If unable to provide submissions as requested, please contact the GSP Program to arrange for an alternative method of transmission.

Business Confidential Petitions

Persons wishing to submit business confidential information must submit that information by electronic mail to FR0807@ustr.eop.gov. Business confidential submissions will not be accepted at http://www.regulations.gov. For any document containing business confidential information submitted as a file attached to an e-mail transmission, the file name of the business confidential version should begin with the characters “BC.” The “BC” should be followed by the name of the party (government, company, union, association, etc.) that is making the submission.

Persons wishing to submit business confidential submissions must also follow each of these steps: (1) Provide a written explanation of why the information should be protected in accordance with 15 CFR 2007.7(b), which must be submitted along with the business confidential version of the submission; (2) clearly mark the business confidential submission “BUSINESS CONFIDENTIAL” at the top and bottom of each page of the submission; (3) indicate using brackets what information in the document is confidential; and (4) submit a non-confidential version of the submission, marked “Public” at the top and bottom of each page, that also indicates, using asterisks, where business confidential information was redacted or deleted from the applicable sentences to http://www.regulations.gov. Business confidential submissions that are submitted without the required markings, or are not accompanied by a properly marked non-confidential version, as set forth above, might not be accepted or may be considered public documents. The non-confidential summary will be placed in the docket and open to public inspection.

III. Public Viewing of Review Submissions

Submissions in response to this notice, except for information granted “business confidential” status under 15 CFR 2003.6, will be available for public viewing pursuant to 15 CFR 2007.6 at http://www.regulations.gov upon completion of processing and no later than approximately two weeks after the relevant due date. Such submissions may be viewed by entering the docket number USTR-2009-0015 in the search field at: http://www.regulations.gov.

Marideth Sandler,
Executive Director, GSP Program, Chairman, GSP Subcommittee of the Trade Policy Staff Committee.

[FR Doc. E9-12406 Filed 5-27-09; 8:45 am]

BILLING CODE 3190-W9-P